OFFICE OF THE UNITED STATES TRADE REPRESENTATIVE

Determination Under the Caribbean Basin Trade Partnership Act

AGENCY: Office of the United States Trade Representative.

ACTION: Notice.

SUMMARY: The United States Trade Representative has determined that Curaçao meets certain customs criteria of the Caribbean Basin Trade Partnership Act and, therefore, imports of eligible products from Curaçao qualify for the enhanced trade benefits provided under the Act.

DATES: Effective date: August 18, 2015.

FOR FURTHER INFORMATION CONTACT: Mary Estelle Ryckman, Senior Advisor, Office of the United States Trade Representative, (202) 395-9585.

SUPPLEMENTARY INFORMATION: The Caribbean Basin Trade Partnership Act (Title II of the Trade and Development Act of 2000, Pub. L. 106-200) (CBTPA) expands the trade benefits available to Caribbean and Central American beneficiary countries under the Caribbean Basin Economic Recovery Act (CBERA). The enhanced trade benefits provided by the CBTPA are available to imports of eligible products from countries that (1) the President designates as CBTPA beneficiary countries, and (2) meet the requirements of the CBERA relating to implementation of customs procedures and requirements similar to those in Chapter 5 of the North American Free Trade Agreement (NAFTA) that assist the U.S. Customs and Border Protection (CBP) in verifying the origin of the products.

In Proclamation 9072 of December 23, 2013, the President designated Curaçao as a CBERA and a CBTPA beneficiary country. In that proclamation, the President also delegated to the United States Trade Representative (USTR) the authority to determine whether Curaçao is meeting the customs criteria of the CBERA. The President directed the USTR to announce any such determinations in the Federal Register and to implement any such determinations through modifications to the Harmonized Tariff Schedule (HTS) of the United States.

Based on information and commitments provided by Curaçao to date, I have determined that Curaçao satisfies the requirements of section 213(b)(4)(A)(ii) of the CBERA relating to the implementation of procedures and requirements similar in all material respects to those in Chapter 5 of the NAFTA. Accordingly, pursuant to the authority vested in the USTR by Proclamation 9072, the HTS is modified by (i) modifying general note 17(a) to the Harmonized Tariff Schedule of the United States by adding in alphabetical sequence “Curaçao,” and (ii) modifying U.S. note 1 to subchapter XX of chapter 98 by inserting in alphabetical sequence “Curaçao,”, effective with respect to articles entered, or withdrawn from warehouse, on the date of this notice.

Michael B.G. Froman,
United States Trade Representative.

[FR Doc. 2015-20921 Filed 8-24-15; 8:45 am]

BILLING CODE 3290-F5-P